OFFICE OF PERSONNEL MANAGEMENT

Privacy Act of 1974, as Amended: Computer Matching Program Between OPM/Centers for Medicare and Medicaid Services, Department of Health and Human Services

AGENCY: Office of Personnel Management.

ACTION: Notice of computer matching program.

SUMMARY: In accordance with the provisions of the Privacy Act, as amended, the notice announces a computer matching program that OPM plans to conduct with CMS.

DATES: OPM will file a report of the subject matching program with the Committee on governmental Affairs of the Senate, the Committee on Government reform and Oversight of the House of Representatives and the Office of Information and Regulatory Affairs, Office of Management and Budget (OMB). The matching program will be effective 40 days after the Federal Register notice has been published and the letter to Congress and OMB have been issued.

ADDRESSES: Interested parties may comment on this notice by writing to Maurice O. Duckett, Assistant Director for RIS Support Services Programs, Office of Personnel Management, 1900 E. Street, NW., Room 1312, Washington, DC 20415. All comments received will be available for public inspection at this address.

FOR FURTHER INFORMATION CONTACT: Contact Marc Flaster, Chief, Management Information Branch 1900 E Street, NW., Room 4316 Washington, DC 20415, telephone number (202) 606-2115.

SUPPLEMENTARY INFORMATION:

A. General

The Computer Matching and Privacy Protection Act of 1988 (Pub. L. 100-503), amended the Privacy Act (5 U.S.C. 552a) by establishing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. Among other things, it requires Federal agencies involved in computer matching programs to:

(1) Negotiate written agreements with the other agency or agencies participating in the matching programs;

(2) Obtain the approval of the match agreement by the Data Integrity Branch (DIB) of the participating Federal agencies.;

(3) Furnish detailed reports about matching programs to Congress and OMB;

(4) Notify applicants and beneficiaries that their records are subject to matching; and

(5) Verify match findings before reducing suspending, terminating or denying an individual's benefits or payments.

B. OPM Computer Matches Subject to the Privacy Act

We have taken action to ensure that all of OPM's computer matching programs with the requirements of the Privacy Act, as amended.

Kay Coles James,
Director, Office of Personnel Management.

Notice of Computer Matching Program, Office of Personnel Management (OPM) With the Centers for Medicare and Medicaid Services (CMS), Department of Health and Human Services

A. Participating Agencies

OPM and CMS.

B. Purpose of the Matching Program

The purpose of this agreement is to establish the conditions under which OPM and CMS can implement the terms and provisions of CMS's Employer Voluntary Data Sharing Agreement, which will also include the Internal Revenue Service/Social Security Administration/CMS Data Match Questionnaire process. Under the terms of the matching agreement, OPM agrees to provide coverage eligibility data to CMS ad furthermore CMS agrees to consider our compliance with this agreement to constitute satisfaction of its statutory obligations. CMS agrees to provide coverage eligibility data to OPM on active as well as inactive employees and their spouses for whom the employer provides group health coverage. These disclosures will provide CMS with information for use in determining the extent to which any Medicare beneficiary is covered under the Federal Employees Health Benefits Programs (FEHBP). These disclosures will enable CMS to identify instances where Medicare is the secondary payer for working, nonPostal, Federal civilian employees and their spouses who have primary insurance because of their Federal employment or because of their spouse's Federal employment. This computer-matching program will result in systematic, improved coordination of benefits between Medicare and FEHBP through data sharing.

C. Authority for Conducting the Matching Program

The provisions of the Social Security Act known as the Medicare Secondary Payer (MSP) laws, codified at 42 U.S.C. 1395y(b), shift from Medicare to certain group health plans (GHPs) primary payment responsibility for certain Medicare beneficiaries to the extent that the medical expenses of those Medicare beneficiaries are also covered by a GHP. The MSP provisions are found at the above citation, as amended, excepting 42 U.S.C. 1395y(b)(2)(A)(ii) and the regulations related to the statute, as amended and currently found at 42 CFR 411.20-.37, 411.100-.130, 411.160-.175, and 411.200-.206.

D. Categories of Records and Individuals Covered by the Match

OPM will disclose information from two major records systems, the Central Personnel Data File, last published as OPM/GOV-1, General Personnel Records System (65 FR 24732, April 27, 2000), and the annuity roll systems, last published as OPM/Central-1, Civil Service Retirement and Insurance Records, (64 FR 54930, October 8, 1999, as amended May 3, 2000 (65 FR 25775). CMS will use OPM's submission of data to update the CMS Common Working File, System Number 09-70-0526, published at 53 FR 52792, December 29, 1988. CMS will further use its Enrollment Data Base, found in System No. 09-70-0502 to determine Medicare eligibility for the records exchanged between the two agencies.

E. Privacy Safeguard and Security

The personal privacy of the individuals whose names are included in the tapes is protected by strict adherence to the provisions of the Privacy Act of 1974 and OMB's “Guidance Interpreting the Provisions of Public Law 100-503, the Computer Matching and Privacy Protection Act of 1988.” Access to the records used in the data exchange is restricted to only those authorized employees and officials who need it to perform their official duties. Records matched or created will be stored in an area that is physically safe from access by unauthorized personnel during duty hours as well as nonduty hours or when not in use. Records used in this exchange and any records created by this exchange will be processed under the immediate supervision and control of authorized personnel in a manner which will protect the confidentiality of the records.

Both OPM and CMS have the right to make onsite inspections or make other provisions to ensure that adequate safeguards are being maintained by the other agency.

F. Inclusive Dates of the Match

The matching program shall become effective upon the signing of the agreement by both parties to the agreement and approval of the agreement by the Data Integrity Boards of the respective agencies, but no sooner than 40 days after notice of this matching program is sent to Congress and the Office of Management and Budget or 30 days after publication of this notice in the Federal Register, whichever is later. The matching program will continue for 18 months from the effective date and may be extended for an additional 12 months thereafter, if certain conditions are met.

[FR Doc. 04-10726 Filed 5-11-04; 8:45 am]

BILLING CODE 6325-38-M